DEPARTMENT OF THE INTERIOR

Office of the Secretary

Exxon Valdez Oil Spill Trustee Council; Notice of Meeting

AGENCY: Office of the Secretary, Department of the Interior.

ACTION: Notice of meeting.

SUMMARY: The Department of the Interior, Office of the Secretary is announcing a public meeting of the Exxon Valdez Oil Spill Public Advisory Committee.

DATES: January 26, 2006, at 10 a.m.

ADDRESSES: Anchorage Hilton Hotel, 500 West Third Avenue, Anchorage, Alaska.

FOR FURTHER INFORMATION CONTACT: Douglas Mutter, Department of the Interior, Office of Environmental Policy and Compliance, 1689 “C” Street, Suite 119, Anchorage, Alaska 99501, (907) 271-5011.

SUPPLEMENTARY INFORMATION: The Public Advisory Committee was created by Paragraph V.A.4 of the Memorandum of Agreement and Consent Decree entered into by the United States of America and the State of Alaska on August 27, 1991, and approved by the United States District Court for the District of Alaska in settlement of United States of America v. State of Alaska, Civil Action No. A91-081 CV. The meeting agenda will feature discussions on the restoration synthesis project, status reports on current projects, and review of the proposed invitation for project proposals for fiscal year 2007.

Willie R. Taylor,
Director, Office of Environmental Policy and Compliance.

[FR Doc. E5-7766 Filed 12-22-05; 8:45 am]

BILLING CODE 4310-RG-P